COMMITTEE FOR PURCHASE FROM PEOPLE WHO ARE BLIND OR SEVERELY DISABLED

Procurement List; Proposed Deletion

AGENCY: Committee for Purchase From People Who Are Blind or Severely Disabled.

ACTION: Proposed deletion from the Procurement List.

SUMMARY: The Committee is proposing to delete a product that was furnished by a nonprofit agency employing persons who are blind or have other severe disabilities.

DATES: Comments must be received on or before: January 6, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed action.

Deletion

The following product is proposed for deletion from the Procurement List:

Product(s)

NSN(s)—Product Name(s): MR 546—Sponge, All-Purpose, Nylon Mesh, Large

Mandatory Source of Supply: Alphapointe, Kansas City, MO

Contracting Activity: Defense Commissary Agency

Michael R. Jurkowski,
Deputy Director, Business & PL Operations, Business Operations.

[FR Doc. 2018-26618 Filed 12-7-18; 8:45 am]

BILLING CODE 6353-01-P